NATIONAL AERONAUTICS AND SPACE ADMINISTRATION

[Notice (05-166)]

Government-Owned Inventions, Available for Licensing

AGENCY: National Aeronautics and Space Administration.

ACTION: Notice of availability of inventions for licensing.

SUMMARY: The invention listed below is assigned to the National Aeronautics and Space Administration, has been filed in the United States Patent and Trademark office, and is available for licensing.

DATES: December 9, 2005.

FOR FURTHER INFORMATION CONTACT: Edward K. Fein, Patent Counsel, Johnson Space Center, Mail Code HA, Houston, TX 77058-8452; telephone (281) 483-4871; fax (281) 244-8452.

NASA Case No. MSC-23695-1: Connector Adapter;

NASA Case No. MSC-23846-1: Redesign Of The Human Metabolic Simulator.

Dated: December 5, 2005.
Keith T. Sefton,
Deputy General Counsel, Administration and Management.

[FR Doc. E5-7164 Filed 12-8-05; 8:45 am]

BILLING CODE 7510-13-P